DEPARTMENT OF TRANSPORTATION

Federal Highway Administration

Notice To Rescind Notice of Intent To Prepare Environmental Impact Statement, Route 82/85/11 Corridor, New London County, Connecticut

AGENCY: Federal Highway Administration (FHWA), DOT.

ACTION: Notice.

SUMMARY: The FHWA is issuing this notice to advise the public that FHWA is rescinding its Notice of Intent (NOI) to prepare an Environmental Impact Statement (EIS) for transportation improvements within the Connecticut Route 82/85/11 corridor in the towns of Salem, Montville, Waterford, and East Lyme, Connecticut.

FOR FURTHER INFORMATION CONTACT: Amy D. Jackson-Grove, Division Administrator, Federal Highway Administration, 628-2 Hebron Avenue, Suite 303, Glastonbury, CT 06033, Telephone: (860) 659-6703.

SUPPLEMENTARY INFORMATION: An NOI to prepare an EIS for the Route 82/85/11 corridor was published in the Federal Register in 1998 (Federal Register Vol. 63, No. 50; FR Doc. 98-6598). The Draft EIS was issued in February 1999, and the Final EIS was issued in July 2007. A Record of Decision was never signed due to environmental concerns and lack of financial resources to construct the project.

Numerous environmental studies have exposed the magnitude of potential environmental impacts to a variety of resources, such as wetlands, endangered species, Section 4(f), and cultural resources. Accordingly, FHWA is hereby rescinding the NOI.

(Catalog of Federal Domestic Assistance Program Number 20.205, Highway Research, Planning and Construction. The regulations implementing Executive Order 12372 regarding intergovernmental consultation on Federal programs and activities apply to this program.)

Issued on: September 28, 2016.
Amy Jackson-Grove,
Division Administrator, Glastonbury, Connecticut.

[FR Doc. 2016-23934 Filed 10-3-16; 8:45 am]

BILLING CODE 4910-22-P